DEPARTMENT OF HOUSING AND URBAN DEVELOPMENT

[Docket No. FR-5484-N-31-02]

Notice of Withdrawal of Proposed Information Collection: Local Appeals to Single-Family Mortgage Limits

AGENCY: Office of the Assistant Secretary for Housing, HUD.

ACTION: Notice.

SUMMARY: On September 20, 2011, HUD published a notice of proposed information collection that HUD contemplated submitting to the Office of Management and Budget (OMB) for review on the subject of local appeals to Single-Family Mortgage Limits. This notice announces the withdrawal of that proposed information collection.

FOR FURTHER INFORMATION CONTACT: Program Contact, Arlene Nunes, Director, Home Mortgage Insurance Division, Office of Single Family Program Development, Department of Housing and Urban Development, 451 7th Street SW., Washington, DC 20410, telephone (202) 708-2121 (this is not a toll free number) for copies of the proposed forms and other available information.

SUPPLEMENTARY INFORMATION: On September 20, 2011, at 76 FR 58291, HUD published notice of a proposed information collection that HUD contemplated submitting to OMB for review, as required by the Paperwork Reduction Act, on the subject of local appeals to Single-Family Mortgage Limits. The September 20, 2011, notice was issued in error, and this notice advises that HUD is withdrawing the proposed information collection.

Authority: The Paperwork Reduction Act of 1995, 44 U.S.C., Chapter 35, as amended.

Dated: November 22, 2011.
Ronald Y. Spraker,
Associate General Deputy Assistant, Secretary for Housing-Associate Deputy Federal Housing Commissioner.

[FR Doc. 2011-30777 Filed 11-28-11; 8:45 am]

BILLING CODE 4210-67-P